DEPARTMENT OF JUSTICE

Notice of Lodging of Proposed Consent Decrees Under the Comprehensive Environmental Response, Compensation, and Liability Act

On April 22, 2016, the Department of Justice lodged two proposed consent decrees with the United States District Court for the Eastern District of Tennessee in the lawsuit entitled United States and State of Tennessee v. OXY USA Inc., Civil Action No. 1:16-cv-103.

The United States, on behalf of the U.S. Environmental Protection Agency (“EPA”), and the State of Tennessee, on behalf of the Tennessee Department of Environment and Conservation (“TDEC”), filed this lawsuit under the Comprehensive Environmental Response, Compensation, and Liability Act (CERCLA). The complaint requests performance of response actions to address Operable Units 3 and 5 of the Copper Basin Mining District Superfund Site in Polk County, Tennessee, recovery of costs that the United States has incurred responding to releases of hazardous substances at the site, and recovery of costs that the United States and the State of Tennessee will incur overseeing implementation of the remedies at Operable Units 3 and 5 at the site.

The proposed consent decrees would resolve the claims alleged in the complaint and provides for implementation of remedies at Operable Units 3 and 5 that EPA and TDEC will oversee. The proposed Operable Unit 3 consent decree requires OXY USA Inc. to implement the remedy selected by EPA for Operable Unit 3, pay EPA $10,779,509 in unreimbursed response costs at the site, and to pay future response costs incurred by EPA and TDEC at Operable Unit 3. The proposed Operable Unit 3 consent decree also includes the United States Departments of the Army, Commerce, and Defense as settling federal agencies as the successor to the former federal government owner and operator of the site, and provides that the United States, on behalf of those agencies, will reimburse OXY USA Inc. for a portion of its costs incurred at the site.

The proposed Operable Unit 5 consent decree requires OXY USA Inc. to implement the remedy selected by EPA for Operable Unit 5, and to pay future response costs incurred by EPA and TDEC at Operable Unit 5. The proposed Operable Unit 5 consent decree also includes the Tennessee Valley Authority as an implementing federal agency that will participate in the implementation of the remedial action selected by EPA.

The publication of this notice opens a period for public comment on the consent decrees. Comments should be addressed to the Assistant Attorney General, Environment and Natural Resources Division, and should refer to United States and State of Tennessee v. OXY USA Inc., D.J. Ref. No. 90-11-3-10404/1 (Operable Unit 3 consent decree) or D.J. Ref. No. 90-11-3-10404 (Operable Unit 5 consent decree). Comments should specify whether they address the proposed Operable Unit 3 consent decree, the proposed Operable Unit 5 consent decree, or both. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decrees may be examined and downloaded at this Justice Department Web site: https://www.justice.gov/enrd/consent-decrees. We will provide paper copies of the proposed consent decrees upon written request and payment of reproduction costs. Please mail your request (specify which proposed consent decree you are requesting) and payment to: Consent Decree Library, U.S. DOJ—ENRD, P.O. Box 7611, Washington, DC 20044-7611.

Please enclose a check or money order for $79.25 for the proposed Operable Unit 3 consent decree and/or $102 for the proposed Operable Unit 5 consent decree (25 cents per page reproduction cost) payable to the United States Treasury. For a paper copy without the exhibits and signature pages, the cost is $12.25 for the proposed Operable Unit 3 consent decree and $13 for the proposed Operable Unit 5 consent decree.

Henry S. Friedman,
Assistant Section Chief, Environmental Enforcement Section, Environment and Natural Resources Division.

[FR Doc. 2016-10114 Filed 4-29-16; 8:45 am]

BILLING CODE 4410-15-P